DEPARTMENT OF HEALTH AND HUMAN SERVICES

Centers for Disease Control and Prevention

[30 Day-17-16BFQ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Survey of Sexually Transmitted Disease (STD) Provider Practices in the United States—NEW—National Center for HIV/AIDS, Viral Hepatitis, STD, and TB Prevention (NCHHSTP), Centers for Disease Control and Prevention (CDC).

Background and Brief Description

Each year, 19.7 million sexually transmitted diseases (STDs) occur in the U.S., half of which strike youth 15-24 years of age. The public health burden of STDs is compounded by their economic impact. In 2010, an estimated $15.6 billion in direct medical costs were attributed to STDs. Undiagnosed and untreated STDs can lead to serious long-term health consequences, especially for adolescent girls and young adult women. For example, every year, about 24,000 young women become infertile as a result of undiagnosed and untreated STDs.

There is no national survey that collects detailed information on the STD practices of physicians. The STD Provider Survey will collect much needed data from U.S. health care providers in five specialties: Primary care (including internal medicine), general or family practice, obstetrics/gynecology, emergency medicine, and pediatrics. Knowledge of provider practices relative to guidelines and state-level laws and policies will provide information useful to stakeholders at all levels regarding the delivery of STD preventive services and treatment by health care providers in the U.S. As providers are one of the few professionals who have face-to-face contact with persons infected with STDs, they are also a potential intervention point for attempts to reduce re-infection and halt the further transmission of STDs.

The purpose of this survey is to conduct a nationally representative survey of physicians in five specialities: Primary care (including internal medicine), general or family practice, obstetrics/gynecology, emergency medicine, and pediatrics. Our sample size of physicians will allow for national estimates and comparisons among these five specialties. Additionally, the survey will provide national estimates for comparisons between providers in the public and private sectors. Information collected will also be used to determine STD prevention activities needed by type of providers (by specialty or public/private) based on findings related to screening and treatment practices for STDs including EPT.

The survey contains sections on the physician's specialty areas, primary practice setting, primacy practice policies, patient demographics, STD testing and diagnosis, STD care and treatment, and respondent demographics.

In an effort to better understand policies and practices for STD care delivery among medical providers, the surveys will be sent to a random sample of 5,000 U.S. physicians across several specialties using the American Medical Association Master file. Using a multimode design (mail and web), multiple reminders will be sent to non-responders in order to reach the target of 3,500 completed surveys. The total burden hours are 1,342. There is no cost to respondents other than their time.

Estimated Annualized Burden Hours
Type of respondents | Form name | Number of respondents | Number of responses per respondent | Average burden per response (in hours)
Physicians responding via Mail | STD Provider Survey | 2,625 | 1 | 20/60
Physicians responding via Web | STD Provider Survey | 875 | 1 | 32/60

Leroy A. Richardson,
Chief, Information Collection Review Office, Office of Scientific Integrity, Office of the Associate Director for Science, Office of the Director, Centers for Disease Control and Prevention.

[FR Doc. 2017-05932 Filed 3-24-17; 8:45 am]

BILLING CODE 4163-18-P